DEPARTMENT OF AGRICULTURE

Food and Nutrition Service

Request for information: Self-Determination Demonstration Project for Tribes That Administer the Food Distribution Program on Indian Reservations

AGENCY: Food and Nutrition Service (FNS), USDA.

ACTION: Notice; request for information

SUMMARY: This is a Request for Information to help the Secretary of the U.S. Department of Agriculture (the Secretary or USDA) develop the additional criteria, as authorized in the Agriculture Improvement Act of 2018, for a self-determination demonstration project related to the purchase of agricultural commodities for the Food Distribution Program on Indian Reservations (FDPIR). USDA requests feedback from Indian Tribal Organizations (ITOs) and State agencies that administer FDPIR, Tribal leaders and representatives, and Tribal associations. This notice is not a request for proposal and does not commit the Government to issue a solicitation, make an award, or pay any costs associated with responding to this announcement. All submitted information shall remain with the Government and will not be returned. All responses will become part of the public record and will not be held confidential.

USDA received authority in section 4003(b) of the Agriculture Improvement Act of 2018 (Pub. L. 115-334, the 2018 Farm Bill) to establish a demonstration project for one or more Tribal Organization(s) administering FDPIR to enter into self-determination contracts to purchase agricultural commodities (which are hereafter referred to as “food(s)”) for the FDPIR food package for their Indian Tribe. These Tribally purchased foods will be issued to FDPIR participants in lieu of similar USDA Foods available in the FDPIR food package. The 2018 Farm Bill authorizes up to $5 million to remain available until expended to carry out this demonstration project; however, availability of funds is subject to Congressional appropriations.

The objective of this Request for Information is to receive feedback to assist USDA in developing the process and criteria for determining if a FDPIR Tribal Organization is eligible for a self-determination demonstration project contract, as specified in the 2018 Farm Bill under Section 4003(b)(3). USDA invites comments on specific questions included in this Request for Information (see SUPPLEMENTARY INFORMATION) and welcomes comments from those involved in the administration of FDPIR, Tribal leaders and representatives, and Tribal associations. USDA will use the comments in response to this Request for Information to inform the competitive process for entering into a self-determination contract(s) as required by Section 4003(b)(2) of the 2018 Farm Bill, upon receipt of Congressional appropriations.

DATES: To be assured of consideration, written comments must be submitted or postmarked on or before February 10, 2020.

ADDRESSES: The Food and Nutrition Service, USDA, invites the submission of the requested information through one of the following methods:

• Preferred method: Submit information through the Federal eRulemaking Portal at http://www.regulations.gov. Follow the online instructions for submissions.

• Mail: Submissions should be addressed to Erica Antonson, Branch Chief, Food Distribution Division, Food and Nutrition Service, U.S. Department of Agriculture, 1320 Braddock Place, Alexandria, VA 22314.

• Email: Send comments to FDPIR-RC@usda.gov with a subject line “FDPIR: RFI 638 Demonstration Project”.

All information properly and timely submitted, using one of the three methods described above and in response to this request for information, will be included in the record and will be made available to the public on the internet at http://www.regulations.gov. Please be advised that the substance of the information provided and the identity of the individuals or entities submitting it will be subject to public disclosure.

FOR FURTHER INFORMATION CONTACT: Requests for additional information or copies of this request for information should be directed to FDPIR-RC@usda.gov.

SUPPLEMENTARY INFORMATION:

I. Background

Program Information

FDPIR provides USDA Foods to income-eligible households living on Indian reservations, and to American Indian households residing in approved areas near reservations and in Oklahoma. The Food and Nutrition Service (FNS), an agency of USDA, administers FDPIR at the Federal level. The program is administered locally by either ITOs or an agency of a State government. ITOs and State agencies, known as FDPIR administering agencies, store and distribute the foods, determine applicant eligibility, and provide nutrition education to recipients. FNS provides FDPIR administering agencies with funds for program administrative costs.

FNS has an agreement with the Agricultural Marketing Service (AMS), another agency of USDA, and the Department of Defense's Defense Logistics Agency (DLA) to buy food for the FDPIR program. Eligible households may choose from over 100 nutritious, domestically produced items across a variety of categories including meat/poultry, dairy, grains, and fruits/vegetables to make up a monthly food package benefit. In recent years, FNS has also worked to expand the availability of traditional foods as part of the food package, including bison, wild rice, wild salmon, catfish, and blue cornmeal. In addition, most FDPIR programs receive a variety of fresh produce as part of the food package. FNS also works closely with the Food Package Review Work Group, a work group comprised of Tribal representatives and Tribal nutritionists, to review the FDPIR food package on an ongoing basis with the goal of revising it to better meet the nutritional needs and food preferences of program participants. As of FY 2019, there are approximately 276 tribes receiving benefits under FDPIR through 102 ITOs and 3 State agencies. The program serves approximately 85,000 participants on an average monthly basis.

II. 2018 Farm Bill

Section 4003(b) of the 2018 Farm Bill authorizes a demonstration project for one or more Tribal Organization(s) within the FDPIR to enter into self-determination contracts to procure foods to supplant FDPIR foods purchased by USDA for their Indian Tribe. Self-determination contracts are also known as 638 Contracts in reference to Public Law 93-638, the Indian Self-Determination and Education Assistance Act. This authority allows Tribal Organizations to take on a larger administrative role in delivering federally funded services and to have more control over the governmental affairs of their Organizations, fostering further self-governance. The 2018 Farm Bill provision under Section 4003(b) supports Tribal Organization self-governance by specifically allowing Tribal Organizations to procure foods instead of USDA.

The 2018 Farm Bill specifically provides the following on Tribal Organization eligibility and procurement of foods for this demonstration project:

Tribal Organization Eligibility (Section 4003(b)(3)(B))

• A Tribal Organization(s) must be successfully administering FDPIR;

• A Tribal Organization(s) must have capacity to purchase agricultural foods following the criteria listed under Procurement of Agricultural Commodities in section 4003(b)(4) below; and

• A Tribal Organization(s) must meet any other criteria determined by the Secretary, in consultation with the Secretary of Interior and Indian tribes.

Procurement of Agricultural Commodities (Section 4003(b)(4))

• A Tribal Organization(s) must be able to procure foods that are domestically produced for this demonstration project;

• Food(s) selected for this demonstration project will supplant, not supplement, the type of agricultural food(s) currently available in the FDPIR food package;

• Food(s) selected for this demonstration project must be of similar or higher nutritional value than the food(s) it is supplanting in the existing FDPIR food package; and

• Food(s) selected for this demonstration project must meet any other criteria determined by the Secretary.

The specific requirements noted above will inform which Tribal Organization(s) are eligible to participate in the demonstration project. Eligible Tribal Organizations will have an opportunity to apply for participation based on a process to be determined and informed by answers to the questions below.

III. Questions

USDA requests that commenters respond in detail to any or all of the items below to help inform who may be eligible for a self-determination contract under Section 4003(b) of the 2018 Farm Bill. Please provide any material that addresses the information requested or any other information that may be pertinent. USDA will consider comments that may require regulatory changes. Additional references or links to materials are welcome.

1. What process should be used to determine which Tribal Organizations should be selected to participate in this demonstration project given that project funds are limited?

2. What, if any, additional criteria should be established for a Tribal Organization to be considered eligible to participate in this demonstration project?

3. What factors should be considered in determining whether a Tribal Organization has the capacity to purchase agricultural foods for this demonstration project?

4. Are there any specific criteria that should be given priority in the selection process?

Dated: December 5, 2019.
Pamilyn Miller,
Administrator, Food and Nutrition Service.

[FR Doc. 2019-26565 Filed 12-9-19; 8:45 am]

BILLING CODE 3410-30-P